FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 10, 2006.

A. Federal Reserve Bank of Atlanta (Andre Anderson, Vice President) 1000 Peachtree Street, N.E., Atlanta, Georgia 30303:

1. Susan McKinzey Milner, individually, and as part of a group acting in concert, consisting of herself; The Milner Limited Family Partnership, of which Susan McKinzey Milner is the general partner; W.R. McKinzey, Jr.; Johnie J. McKinzey; Johnie Dyal Johnston; and Barry Milner; all of Aliceville, Alabama, to retain in the aggregate, 10 percent or more of the shares, and thereby control, of First National Bancshares of Central Alabama, Inc., which controls First National Bank of Central Alabama, both of Aliceville, Alabama.

2. The Pollard Family Group, which consists of the following: Jennie Floyd Pollard; the Robert W. Pollard, Jr. Section 2503(c) Trust for the Benefit of Zachary Duncan Pollard, the Trust dated February 1, 1984, for the Benefit of Zachary Duncan Pollard, the Robert W. Pollard, Jr. Section 2503(c) Trust for the Benefit of Ann Elizabeth Pollard, the Trust dated December 17, 1985, for the Benefit of Ann Elizabeth Pollard, the Robert W. Pollard, Jr. Section 2503(c) Trust for the Benefit of Robert W. Pollard, III, and the Trust dated February 1, 1984, for the Benefit of Robert W. Pollard, III, Robert W. Pollard, Jr. as Trustee and Individually; Patricia D. Pollard; the Trust dated August 26, 1985, for the Benefit of Levi Anderson Pollard, VI, and the Trust dated July 1, 1986, for the Benefit of Lucy Ann Pollard, Levi Anderson Pollard, V as Trustee and Individually; Richard Daniel Blanton; the Patricia Pollard Blanton Section 2503(c) Trust for the Benefit of Thomas Vinson Blanton, II, the Trust dated August 26, 1985, for the Benefit of Thomas Vinson Blanton, II, the Patricia Pollard Blanton Section 2503(c) Trust for the Benefit of Jennie Briggs Blanton, the Trust dated January 1, 1992, for the Benefit of Jennie Briggs Blanton, the Patricia Pollard Blanton Section 2503(c) Trust for the Benefit of Clayton Edward Blanton, the Trust dated January 1, 1992, for the Benefit of Clayton Edward Blanton, the Trust dated August 26, 1985, for the Benefit of Richard Daniel Blanton, Jr., and the Trust dated August 26, 1985, for the Benefit of Lee Blanton West, Patricia Pollard Blanton as Trustee and Individually; Lee Blanton West; Pollard Land Company; and RWP Sr. Enterprises, LLLP (Robert W. Pollard, Jr., Lynn Pollard Nickerson, Levi Anderson Pollard, V, and Patricia Pollard Blanton, general partners), all of Appling, Georgia; Robert William Pollard, III, Evans, Georgia; Richard Daniel Blanton, Jr., Carrollton, Georgia; and the Trust dated August 26, 1985, for the Benefit of Paul Rush Battle, Lynn Pollard Nickerson as Trustee and Individually, all of Atlanta, Georgia, to retain voting shares and thereby control Southeastern Bank Financial Corporation, Augusta, Georgia, and thereby retain shares of Georgia Bank & Trust Company of Augusta, also of Augusta, Georgia.

Board of Governors of the Federal Reserve System, April 20, 2006.
Jennifer J. Johnson,
Secretary of the Board.

[FR Doc. E6-6155 Filed 4-24-06; 8:45 am]

BILLING CODE 6210-01-S